CONSUMER PRODUCT SAFETY COMMISSION

16 CFR Part 1231

[Docket No. CPSC-2015-0031]

Safety Standard for High Chairs; Correction

AGENCY: Consumer Product Safety Commission.

ACTION: Notice of proposed rulemaking; correction.

SUMMARY: The United States Consumer Product Safety Commission (“Commission” or “CPSC”) is correcting a Notice of Proposed Rulemaking (“NPR”) that appeared in the Federal Register of November 9, 2015 (80 FR 69144). The document proposed a safety standard for high chairs. The Commission is correcting an error in the proposed regulatory text concerning rearward stability.

DATES: As established in the November 9, 2015 NPR, comments on the proposed rule are due by January 25, 2016.

FOR FURTHER INFORMATION CONTACT: Stefanie C. Marques, Project Manager, Directorate for Health Sciences, U.S. Consumer Product Safety Commission, 5 Research Place, Rockville, MD 20850; telephone: 301-987-2581; email: smarques@cpsc.gov.

SUPPLEMENTARY INFORMATION: In the Federal Register of November 9, 2015 (80 FR 69144), the Commission published an NPR proposing to establish a safety standard for high chairs pursuant to section 104(b) of the Consumer Product Safety Act of 2008 (“CPSIA”; Pub. L. 110-314, 122 Stat. 3016). The NPR proposed to incorporate by reference ASTM F404-15, Standard Consumer Safety Specification for High Chairs (“ASTM F404-15”) into 16 CFR part 1231 and proposed more stringent requirements than those specified in ASTM F404-15 for rearward stability and warnings on labels and in instructional literature. The NPR contained an error, which the Commission is now correcting.

The correction pertains to proposed 16 CFR 1231.2, paragraph (b)(2), regarding the rearward stability index (“SI”) the Commission proposed to require for high chairs. The preamble to the NPR (page 69151, section VIII.A., titled Description of Proposed Changes to ASTM Standard, Rearward Stability) and the briefing package available on the Commission's Web site correctly described and discussed the Commission's proposal to require high chairs to have an SI of 50 or more. However, the proposed regulatory text on page 69159 of the NPR misstated the proposed requirement as prohibiting high chairs from having an SI of 50 or more.

The Commission hereby makes the following correction to the NPR appearing on page 69144 in the Federal Register of November 9, 2015:

§ 1231.2 [Corrected]

On page 69159, in the third column, in § 1231.2, in paragraph (b)(2), “6.5.2 Rearward stability—When tested in accordance with 7.7.2.6 (paragraph (c)(3) of this section), a high chair shall not have a Rearward Stability Index of 50 or more.” is corrected to read “6.5.2 Rearward stability—When tested in accordance with 7.7.2.6 (paragraph (c)(3) of this section), a high chair shall have a Rearward Stability Index of 50 or more.”

Dated: January 15, 2016.
Todd A. Stevenson,
Secretary, Consumer Product Safety Commission.

[FR Doc. 2016-01133 Filed 1-20-16; 8:45 am]

BILLING CODE 6355-01-P